DEPARTMENT OF STATE

[Public Notice 6879]

Shipping Coordinating Committee; Notice of Committee Meeting

The Shipping Coordinating Committee (SHC) will conduct an open meeting at 9:30 a.m. on Tuesday March 9th, 2010, in Room 2415 of the United States Coast Guard Headquarters Building, 2100 Second Street, SW., Washington, DC 20593-0001. The primary purpose of the meeting is to prepare for the sixtieth Session of the International Maritime Organization (IMO) Marine Environmental Protection Committee to be held at the IMO headquarters in London, United Kingdom, from March 22 to March 26th, 2010.

The primary matters to be considered include:

—Harmful aquatic organisms in ballast water

—Recycling of ships

—Prevention of air pollution from ships

—Consideration and adoption of amendments to mandatory instruments

—Interpretations of and amendments to MARPOL and related instruments

—Implementation of the International Convention on Oil Pollution Preparedness, Response and Cooperation (OPRC) and the OPRC-Hazardous and Noxious Substances Protocol and relevant conference resolutions

—Identification and protection of Special Areas and Particularly Sensitive Sea Areas

—Inadequacy of reception facilities

—Reports of sub-committees

—Work of other bodies

—Status of conventions

—Harmful anti-fouling systems for ships

—Promotion of implementation and enforcement of MARPOL and related instruments

—Technical Cooperation Sub-program for the Protection of the Marine Environment

—Role of the human element

—Formal safety assessment

—Noise from commercial shipping and its adverse impacts on marine life

—Work program of the Committee and subsidiary bodies

—Application of the Committees' Guidelines

—Consideration of the report of the Committee

Members of the public may attend this meeting up to the seating capacity of the room. To facilitate the building security process, those who plan to attend should contact the meeting coordinator, LCDR Brian Moore, by e-mail at brian.e.moore@uscg.mil, by phone at (202) 372-1434, by fax at (202) 372-1925, or in writing at Commandant (CG-5224), U.S. Coast Guard, 2100 2nd Street, SW., Stop 7126, Washington, DC 20593-7126 not later than March 2nd, 2010, 7 days prior to the meeting. A member of the public requesting reasonable accommodation should also make such request prior to March 2nd, 2010. Requests made after March 2nd, 2010 might not be able to be accommodated. Please note that due to security considerations, two valid, government issued photo identifications must be presented to gain entrance to the Headquarters building. The Headquarters building is accessible by taxi and privately owned conveyance (public transportation is not generally available).

However, parking in the vicinity of the building is extremely limited. Additional information regarding this and other IMO SHC public meetings may be found at: http://www.uscg.mil/imo.

Dated: February 12, 2010.
Jon Trent Warner,
Executive Secretary, Shipping Coordinating Committee, Department of State.

[FR Doc. 2010-3565 Filed 2-22-10; 8:45 am]

BILLING CODE 4710-09-P